DEPARTMENT OF THE INTERIOR

National Park Service

[2253-665]

Notice of Inventory Completion: Colorado Historical Society (History Colorado), Denver, CO

AGENCY: National Park Service, Interior.

ACTION: Notice.

SUMMARY: The Colorado Historical Society has completed an inventory of human remains and associated funerary objects, in consultation with the appropriate Indian Tribes, and has determined that there is a cultural affiliation between the human remains and associated funerary objects and present-day Indian Tribes. Representatives of any Indian Tribe that believes itself to be culturally affiliated with the human remains and associated funerary objects may contact the Colorado Historical Society. Repatriation of the human remains and associated funerary objects to the Indian Tribes stated below may occur if no additional claimants come forward.

DATES: Representatives of any Indian Tribe that believes it has a cultural affiliation with the human remains and associated funerary objects should contact the Colorado Historical Society at the address below by July 15, 2011.

ADDRESSES: Bridget Ambler, Curator of Material Culture, Colorado Historical Society, 1560 Broadway, Suite 400, Denver, CO 80202, telephone (303) 866-2303.

SUPPLEMENTARY INFORMATION: Notice is here given in accordance with the Native American Graves Protection and Repatriation Act (NAGPRA), 25 U.S.C. 3003, of the completion of an inventory of human remains and associated funerary objects in the possession/control of the Colorado Historical Society (History Colorado), Denver, CO. The human remains and associated funerary objects were removed from Costilla, La Plata, and Montezuma Counties, CO, and San Juan County, UT.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Colorado Historical Society professional staff in consultation with representatives of the Hopi Tribe of Arizona; Navajo Nation, Arizona, New Mexico & Utah; Ohkay Owingeh, New Mexico; Pueblo of Acoma, New Mexico; Pueblo of Isleta, New Mexico; Pueblo of Jemez, New Mexico; Pueblo of Laguna, New Mexico; Pueblo of Nambe, New Mexico; Pueblo of Pojoaque, New Mexico; Pueblo of Santa Ana, New Mexico; Pueblo of Santa Clara, New Mexico; Pueblo of Tesuque, New Mexico; Ysleta Del Sur Pueblo of Texas; and the Zuni Tribe of the Zuni Reservation, New Mexico. The Kewa Pueblo, New Mexico (formerly the Pueblo of Santo Domingo); Pueblo of Cochiti, New Mexico; Pueblo of Picuris, New Mexico; Pueblo of San Felipe, New Mexico; Pueblo of San Ildefonso, New Mexico; Pueblo of Sandia, New Mexico; Pueblo of Taos, New Mexico; and the Pueblo of Zia, New Mexico, were invited to consult, but did not send representatives.

History and Description of the Remains

In July 1990, human remains representing a minimum of 10 individuals were removed from Pock's Garden Site (5MT.10851), in Montezuma County, CO. The site is located on private property. The landowner discovered the remains and later notified the Colorado State Archaeologist. Subsequently, under the direction of Dr. Calvin H. Jennings, the Colorado State University (CSU) Field School, investigated and transferred the individuals to CSU, Fort Collins, CO. In May 2006, Dr. Jason LaBelle of CSU transferred the individuals to the Colorado Historical Society (identified as Office of Archaeology and Historic Preservation (OAHP) Case Number 16). No known individuals were identified. No associated funerary objects are present.

Osteological analysis by CSU determined that the individuals are of Native American ancestry. Dr. Jennings documented two kiva depressions, diagnostic of Ancient Puebloan sites dating from A.D. 750 to A.D. 1300.

From 2004 to 2008, human remains representing a minimum of 15 individuals were removed from the Darkmold Site (5LP.4991), in La Plata County, CO, by Fort Lewis College, Durango, CO, pursuant to a state permit and under the direction of Mona Charles, Director of the Archaeological Field School. The site is located on private property. In 2009, Fort Lewis College delivered the final set of remains to the Colorado Historical Society (OAHP Case Number 156). No known individuals were identified. The four associated funerary objects are three stone beads and a notched animal bone.

Fort Lewis College conducted an archeological field school at the Darkmold Site from 1998 to 2008. There are 26 individuals and 111 associated funerary objects also removed from this site that were affiliated to the 21 present-day Pueblos and reported in a Notice of Inventory Completion previously published in the Federal Register (69 FR 68162-68169, November 23, 2004). Osteological analysis by the Fort Lewis College and Paul Sandberg, contract osteologist for the Colorado Historical Society, determined that the individuals are of Native American ancestry. Radiocarbon dates for the site returned a date range of 360 B.C. to A.D. 500, consistent with Basketmaker II chronology. Multiple Ancient Puebloan sites are present in the site vicinity. The associated funerary objects and burial context indicate Ancient Puebloan cultural practices.

In May 2000, human remains representing a minimum of two individuals were removed from private property (5LP.5748), in La Plata County, CO, by staff from the Fort Lewis College pursuant to state permit. They were eroding from a steep cut bank behind the landowner's garage. In July 2001, they were transferred to the Colorado Historical Society (OAHP Case Number 163). No known individuals were identified. One kernel of corn was recovered from the excavation near the individual, but is not considered an associated funerary object. No associated funerary objects are present.

Osteological analysis by Fort Lewis College determined that the individuals are of Native American ancestry. Radiocarbon dates for the site returned a date range of 170 B.C. to A.D. 230, consistent with Basketmaker II chronology. Multiple Ancient Puebloan sites are present in the site vicinity. Burial context is consistent with Ancient Puebloan cultural practices.

Between 1994 and 2004, human remains representing a minimum of 16 individuals were removed from Mitchell Springs (5MT.10991), in Montezuma County, CO, by staff from Glendale Community College and the landowner pursuant to a state permit. The site is located on private property. All 16 individuals were transferred to the Colorado Historical Society, with the final transfer occurring in 2008 (OAHP Case Number 222). No known individuals were identified. The 10 associated funerary objects are partial and complete Black-on-White ceramic vessels, including three with Piedra and Cortez designs, diagnostically associated with the Pueblo I and Pueblo II Ancient Puebloan culture periods.

Osteological analysis by Dr. Linda Smith, Glendale Community College, and Paul Sandberg, contract osteologist for the Colorado Historical Society, determined that the individuals are of Native American ancestry. Ceramic cross-dating indicates a date range from A.D. 750 to A.D. 1020, consistent with Ancient Puebloan occupations. Multiple Ancient Puebloan sites are present in the site vicinity. The associated funerary objects and burial context are consistent with Ancient Puebloan cultural practices.

In June 2005, human remains representing a minimum of two individuals were removed from private property (5LP.7853), in La Plata County, CO. They were discovered by workers during the construction of a subdivision. OAHP staff investigated the burials and the individuals were transferred to the Colorado Historical Society in November 2005 (OAHP Case Number 231). No known individuals were identified. The three associated funerary objects are one lot of ceramic sherds (representing two decorated Chapin bowls, possibly Rosa Gray) and a third unidentified vessel.

Osteological analysis by Beth Conour, contract osteologist for the Colorado Historical Society, determined that the individuals are of Native American ancestry. Ceramic cross-dating indicates a date range from A.D. 500-900, consistent with the Basketmaker III/Pueblo I periods. Multiple Ancient Puebloan sites are present in the site vicinity. Associated artifacts and burial context are consistent with Ancient Puebloan cultural practices.

In approximately 1958, human remains representing a minimum of one individual were removed from a location near the Trinchera Ranch, in Costilla County, CO, by a private citizen. The son of the citizen transferred them to the Colorado Historical Society in February 2006 (OAHP Case Number 236). No known individual was identified. The 14 associated funerary objects are 1 Mancos Black-on-White bowl, 1 Piedra Black-on-White pitcher, 1 Black-on-White miniature vessel, 8 pottery fragments, 1 biface, 1 polishing stone, and 1 sandstone fragment.

Osteological analysis by Paul Sandberg, contract osteologist for the Colorado Historical Society, determined that the individual is of Native American ancestry. The ceramics are diagnostically associated with the Pueblo I and Pueblo II Ancient Puebloan culture periods. Ceramic cross-dating suggest that the individual lived circa A.D. 750 to A.D. 1020. Ancient Puebloan sites have been documented in the site vicinity. Associated funerary objects are consistent with Ancient Puebloan material culture.

In November 2006, human remains representing a minimum of one individual were removed from private property (5MT.8119), in Montezuma County, CO. The discovery was reported by a tourist and investigated by OAHP staff. The individual was transferred to the Colorado Historical Society (OAHP Case Number 242). The site was previously recorded and excavated in 1983-1984. No known individual was identified. No associated funerary objects are present, although several artifacts and architectural features were noted on the surface of the site. They included flaked stone debitage, fire-cracked rock, metate fragments, grayware potsherds, Mancos Black-on-White potsherds, and masonry walls.

Ceramic cross-dating and dates reported from the 1983-1984 excavation give a date range of A.D. 1050-1125, consistent with Ancient Puebloan occupations during the Pueblo II period. Multiple Ancient Puebloan sites are present in the site vicinity. Surface artifacts and architectural features are consistent with Ancient Puebloan culture.

In October 2006, human remains representing a minimum of seven individuals were removed from private property (5MR.11739), in Montezuma County, CO. Fragments of the human remains were discovered eroding from an arroyo wall on the property of Kelly Place, a privately owned inn and archeological preserve. OAHP staff investigated the discovery (OAHP Case Number 243). The remains were transferred to the Colorado Historical Society in February 2007. No known individuals were identified. No associated funerary objects are present.

Osteological analysis by Dr. Christie Turner determined that the individuals are of Native American ancestry. Multiple Ancient Puebloan sites are present in the site vicinity. Surface artifacts and architectural features are consistent with Ancient Puebloan culture from Pueblo II-III occupations (A.D. 950-1300).

From approximately 1980 to 1985, human remains representing a minimum of one individual were removed from private property, in La Plata County, CO. In 2009, the individual was anonymously left at Anasazi Heritage Center with a note stating that the husband of the “donor” had collected the remains while working during the construction of a subdivision north of Bayfield, CO. The individual was transferred to the Colorado Historical Society in May 2010 (OAHP Case Number 272). No known individual was identified. The six associated funerary objects are one partial Chapin Black-on-White pitcher, two partial Chapin Black-on-White bowls, one lot of Chapin grayware sherds, one scraper, and one river cobble.

Osteological analysis by Cynthia Bradley determined that the individual is of Native American ancestry. Multiple Ancient Puebloan sites are present in the site vicinity. Associated funerary objects are consistent with Ancient Puebloan material culture. Ceramic cross-dating indicates that the individual may have lived the during Basketmaker III/Pueblo I periods (A.D. 500-900).

In 1944, human remains representing a minimum of four individuals were bequeathed to the Colorado Historical Society by James Mellinger of Longmont, CO. They are reported to have been removed from the Grand Gulch area of San Juan County, UT (catalog numbers UHR.131/173, UHR.190, UHR.191, and UHR.192). The individual identified as UHR. 131/173 was recovered “on the open plain” while the other three were recovered from “a burial mound.” No known individuals were identified. One side-notched projectile point is embedded in one individual's hip, but is not considered to be an associated funerary object. The two associated funerary objects are turkey feather blanket fragments (two of the four individuals are accompanied by these fragments).

Osteological analysis by Paul Sandberg, contract osteologist for the Colorado Historical Society, determined that the individuals are of Native American ancestry. Numerous Basketmaker and Ancient Puebloan sites dating from 1200 B.C. to A.D.1200/1300 have been documented in the Grand Gulch area. Turkey feather blankets are consistent with Basketmaker and Ancient Puebloan populations starting from the Basketmaker II period. The embedded projectile point is diagnostic of Basketmaker II occupations in the Grand Gulch area.

Available information indicates there is a traditional association between the Navajo Nation and the geographical area from where the individuals reported in this Notice of Inventory Completion were recovered. However, the preponderance of evidence, including site architecture, material culture, and continuity of key cultural traits through time, is associated with Ancient Puebloan occupations of the southwestern United States from the Basketmaker II period through the Pueblo III period (from approximately 1000 B.C. to A.D. 1300), and, thus predates the majority of extant evidence in the area for ancestors of the present-day Navajo Nation.

Evidence was gathered from Tribal consultations, physical examination, survey of acquisition history, review of current available archeological, ethnographic, historical, anthropological and linguistic literature, and artifact analysis. Therefore, based on geographical, kinship, biological, archeological, anthropological, linguistic, oral tradition, folklore, historical and expert opinion, the cultural affiliation of these human remains and associated funerary objects is to the Hopi Tribe of Arizona; Kewa Pueblo, New Mexico; Ohkay Owingeh, New Mexico; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; Ysleta Del Sur Pueblo of Texas; and the Zuni Tribe of the Zuni Reservation, New Mexico (hereinafter referred to as “The Tribes”).

Determinations Made by the Colorado Historical Society

Officials of the Colorado Historical Society have determined that:

• Pursuant to 25 U.S.C. 3001(9), the human remains described above represent the physical remains of 59 individuals of Native American ancestry.

• Pursuant to 25 U.S.C. 3001(3)(A), the 39 objects described above are reasonably believed to have been placed with or near individual human remains at the time of death or later as part of the death rite or ceremony.

• Pursuant to 25 U.S.C. 3001(2), there is a relationship of shared group identity that can be reasonably traced between the Native American human remains and associated funerary objects and The Tribes.

Additional Requestors and Disposition

Representatives of any other Indian Tribe that believes itself to be culturally affiliated with the human remains and/or associated funerary objects should contact Bridget Ambler, Curator of Material Culture, Colorado Historical Society, 1560 Broadway, Suite 400, Denver, CO 80202, telephone (303) 866-2303, before July 15, 2011. Repatriation of the human remains and associated funerary objects to The Tribes may proceed after that date if no additional claimants come forward.

The Colorado Historical Society is responsible for notifying The Tribes and the Navajo Nation, Arizona, New Mexico & Utah, that this notice has been published.

Dated: June 9, 2011.
Sherry Hutt,
Manager, National NAGPRA Program.

[FR Doc. 2011-14764 Filed 6-14-11; 8:45 am]

BILLING CODE 4312-50-P